DEPARTMENT OF TRANSPORTATION

Federal Aviation Administration

RTCA Special Committee 165; Minimum Operational Performance Standards for Aeronautical Mobile Satellite Services

Pursuant to section 10(a)(2) of the Federal Advisory Committee Act (P.L. 92-463, 5 U.S.C., Appendix 2), notice is hereby given for Special Committee (SC)-165 meeting to be held November 2, 2000, starting at 9:00 a.m. The meeting will be held at RTCA, 1140 Connecticut Avenue, NW., Suite 1020, Washington, DC 20036.

The agenda will include: (1) Welcome and Introductory Remarks; (2) Approval of Summary from Previous meeting; (3) Chairman's Remarks; (4) Review of SC-165 Working Group Activities: (a) Working Group (WG)-1 (AMS(R)S Avionics Equipment MOPS); (b) WG-3 (AMS(R)S MASPS); (5) Achieve Consensus on Proposed Change No. 1 to RTCA DO-210D; (6) Overview of Related activities; (c) AEEC 741 and 761 Characteristics; (d) EUROCAE WG-55; (e) AMS(R)S Spectrum Issues; (f) ICAO Aeronautical Mobile Communications Panel; (g) Industry, Users, Government; (7) Other Business; (8) Date and Location of Next Meeting; (9) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on October 11, 2000.
Jane P. Caldwell,
Designated Official.

[FR Doc. 00-26828 Filed 10-18-00; 8:45 am]

BILLING CODE 4910-13-U